DEPARTMENT OF TRANSPORTATION

National Highway Traffic Safety Administration

49 CFR Part 571

[DOT Docket No. NHTSA-01-9765]

RIN 2127-AE59

Federal Motor Vehicle Safety Standards; Radiator and Coolant Reservoir Caps, Venting of Motor Vehicle Coolant Systems

AGENCY: National Highway Traffic Safety Administration (NHTSA), DOT.

ACTION: Extension of comment period for a notice of proposed rulemaking (NPRM).

SUMMARY: This document extends the comment period on an NPRM that proposed a new Federal motor vehicle safety standard regulating new radiator caps and coolant reservoir caps, and new passenger cars, multipurpose passenger vehicles and light trucks with such caps. We are taking this action in response to a petition from the Alliance of Automobile Manufacturers.

DATES: Comments on DOT Docket No. NHTSA-01-9765 must be received by September 28, 2001.

ADDRESSES: Comments should refer to DOT Docket No. NHTSA-01-9765 and be submitted to: Docket Management, Room PL-401, 400 Seventh Street, SW., Washington, DC, 20590.

You may call the Docket at 202-366-9324. You may visit the Docket from 10 a.m. to 5 p.m., Monday through Friday, except on Federal holidays.

FOR FURTHER INFORMATION CONTACT: For non-legal issues, you may call Mr. Kenneth O. Hardie, Office of Crash Avoidance Standards at (202) 366-6987. His FAX number is (202) 493-2739.

For legal issues, you may call Ms. Dorothy Nakama, Office of the Chief Counsel at (202) 366-2992. Her FAX number is (202) 366-3820.

You may send mail to both of these officials at National Highway Traffic Safety Administration, 400 Seventh St., SW., Washington, DC, 20590.

SUPPLEMENTARY INFORMATION: On June 1, 2001, we (NHTSA) published in the Federal Register (66 FR 29747) a notice of proposed rulemaking proposing a new Federal motor vehicle safety standard regulating new radiator caps and coolant reservoir caps, and new passenger cars, multipurpose passenger vehicles and light trucks with such caps. We stated our belief that the new standard, if implemented, would result in fewer scald injuries that occur when people attempt to remove caps from motor vehicle radiators or coolant reservoirs that are under high pressure and contain hot fluids. However, the rulemaking would not require that radiator caps or coolant reservoir caps be provided on any motor vehicle. The NPRM had a comment due date of July 31, 2001.

In a letter dated July 2, 2001, the Alliance of Automobile Manufacturers (the Alliance) petitioned us for an extension of the comment period. Members of the Alliance include BMW Group, DaimlerChrysler, Fiat, Ford Motor Company, General Motors, Isuzu, Mazda, Mitsubishi Motors, Nissan, Porsche, Toyota, Volkswagen, and Volvo. The letter stated that the Alliance “has conducted a preliminary review of the Radiator and Coolant Reservoir Caps, Venting of Motor Vehicle Coolant Systems—Notice of Proposed Rulemaking” and asked for an additional 30 days to comment on the NPRM.

The Alliance gave two reasons for why it needed the extra time. First, during the “critical time” before which the comments are due, some Alliance members will be “on extended shutdown” and would therefore not be able to sufficiently participate in the formulation of the Alliance's comments. Second, the Alliance noted that the NPRM and Preliminary Regulatory Evaluation both reference testing that we had conducted at NHTSA's Vehicle Research and Test Center (VRTC) in East Liberty, Ohio. Although the NPRM said that the test data would be docketed, as of July 2, 2001, the test data were not yet available for public inspection.

Because we agree with the Alliance that test results should be available to persons wishing to comment on the NPRM, we have decided that it is in the public interest to grant the petitioner's request. The test results are on videotape and will be available for review at: NHTSA/FHWA National Crash Analysis Center, George Washington University (GWU), VIRGINIA CAMPUS 20101 Academic Way, NCAC Library, Ashburn, VA 20147.

Because it cannot be scanned, this videotape is not available for review through the on-line DOT Docket Management System web site. We are in the process of making arrangements with GWU to ensure public accessibility to the videotape. When public access is assured, we will post a notice of “Availability of Non-Scannable Items” in DOT Docket No. NHTSA-01-9765. GWU contact persons for the videotape are Ms. K.D. Agrali or Ms. Jenni Behrs, GWU Film Technicians. Their telephone number is: (703) 726-8236.

We realize that it may take some interested parties additional time to go to GWU's Ashburn campus to review the videotape, and have therefore decided to allow more time for public comment than that requested by the Alliance. Accordingly, the public comment closing date for DOT Docket NHTSA-01-9765 is extended from July 31, 2001 to Friday, September 28, 2001.

Authority: 49 U.S.C. 322, 30111, 30115, 30117, and 30166; delegation of authority at 49 CFR 1.50.

Issued on: July 27, 2001.
Stephen R. Kratzke,
Associate Administrator for Safety Performance Standards.

[FR Doc. 01-19236 Filed 7-30-01; 10:06 am]

BILLING CODE 4910-59-P